OFFICE OF THE DIRECTOR OF NATIONAL INTELLIGENCE

Privacy Act of 1974; System of Records

AGENCY: Office of the Director of National Intelligence (ODNI).

ACTION: Notice of a proposed new system of records.

SUMMARY: ODNI provides notice of a proposed new Privacy Act system of records at the National Intelligence University (NIU). ODNI recommends to add a proposed new system of records to its records inventory subject to the Privacy Act of 1974, as amended. This action is necessary to meet the requirements of the Privacy Act to publish in the Federal Register, the existence and character of records maintained by NIU. This proposed new system of records is titled, “National Intelligence University (NIU) Program Records,” ODNI/NIU-01.

DATES: This proposed new System of Records will go into effect on November 7, 2022, unless comments are received that result in a contrary determination.

ADDRESSES: Comments may be submitted by any of the following methods:

Federal eRulemaking Portal: http://www.regulations.gov.

Email: transparency@dni.gov.

Mail: Director, Information Management Office, Chief Operating Officer, ODNI, Washington, DC 20511.

SUPPLEMENTARY INFORMATION: The NIU is the Intelligence Community's (IC) sole accredited, federal degree-granting institution. Cleared government students, representing a mixture from federal agencies and all branches of the United States Armed Services, come to NIU to gain knowledge, drive debate, participate in collaborative learning and information sharing, and engage in research concerning intelligence and national security topics in a classified setting. Previously, NIU was part of the Defense Intelligence Agency (DIA). However, Congress subsequently mandated that the Director of National Intelligence (DNI) and the Secretary of Defense work together to transition the NIU from the DIA and into the ODNI. See Section 5324(b) (l) of the National Defense Authorization Act (NDAA) for Fiscal Year (FY) 2020 (Pub. L. 116-92) (hereafter FY 2020 NDAA).

Specifically, in 2017, a Congressional panel offered alternative governance models to enhance NIU, to include a more prominent role for ODNI. See The Joint Explanatory Statement accompanying the Intelligence Authorization Act for Fiscal Year 2017. The Secretary of Defense and the House Permanent Select Committee on Intelligence (HPSCI) also concluded that DIA would benefit from moving NIU elsewhere in the IC with HPSCI supporting NIU's transfer to ODNI. Additional Congressional direction (see FY 2020 NDAA) required that the Department of Defense (DoD) remain involved in NIU's governance, that DoD personnel serve as faculty at the ODNI-led university, that DoD embrace NIU being moved to ODNI and that DoD not attempt to create a new intelligence college to replace NIU. Both the House Committee on Oversight and Government Reform and the Senate Committee on Homeland Security and Governmental Affairs did not have any objections to the DNI and Under Secretary of Defense for Intelligence and Security letters that certified that they met congressional requirements that informed the transfer of NIU to ODNI. ODNI certified before the inauguration and DIA certified a few months later. On December 2019, Congress directed the Secretary of Defense and the DNI to effect an organizational transition of NIU from DIA to ODNI. On 20 June 2021, NIU transitioned from the DIA to the ODNI. In this new capacity, NIU will continue to serve the intelligence and national security professionals from the IC components and the U.S. Government.

This notice informs the public of a proposed new system of records to administer the NIU program at ODNI. ODNI administration of the NIU program includes review of proposed new applicant submissions for attendance eligibility, coursework, evaluation of student progress, and academic activities and achievements; identifying and coordinating with prospective and invited guest speakers; and managing the school, including faculty, staff, instructors, administrative support personnel, and the Board of Visitors.

The NIU is the sole accredited, federal degree-granting institution within the IC and grants undergraduate and graduate degrees in intelligence related disciplines to IC, DoD, and other U.S. Government personnel.

In December 2019, Congress directed the Secretary of Defense and the DNI to effect an organizational transition of NIU from DIA to ODNI. In March 2020, DIA and ODNI began this transition with DIA continuing to host NIU-related Privacy Act records under DIA's Privacy Act System of Records Notice (SORN) until such time when ODNI established a new SORN for those records. The relevant DIA SORN for NIU-related records is LDIA 0011 “Student Information Files,” 78 FR 47308 (05 August 2013). Once the new ODNI Privacy Act System of Records Notice goes into effect, DIA will rescind LDIA 0011.

SYSTEM NAME AND NUMBER:

NIU Program Records (ODNI/NIU-01).

SECURITY CLASSIFICATION:

The classification of records in this system ranges from UNCLASSIFIED to TOP SECRET.

SYSTEM LOCATION:

Office of the Director of National Intelligence, Washington, DC 20511.

SYSTEM MANAGER(S):

President, National Intelligence University, 4600 Sangamore Road, Bethesda, MD 20816.

AUTHORITY FOR MAINTENANCE OF THE SYSTEM:

The Intelligence Reform and Terrorism Prevention Act of 2004, Public Law 108-458, 118 Stat. 3638 (17 December 2004); Pursuant to section 5324(b)(l) of the National Defense Authorization Act for FY 2020 (Pub. L. 116-92); 50 U.S. Code 3334a-Transfer of National Intelligence University to the Office of the Director of National Intelligence; 50 U.S. Code 3227a-Degree granting authority; 50 U.S. Code 3322, Additional education and training requirements; and Executive Order 9397 Relating to Federal Agency Use of Social Security Numbers. E.O. 9397 (SSN), as amended.

PURPOSE(S) OF THE SYSTEM:

Records in this system are collected to administer the NIU's accredited, federal degree-granting program, including confirming applicant attendance eligibility; monitoring student progress; producing records of grades, activities, and achievements; preparing assignment rosters; rendering management, statistical summaries, and other reports; identifying and coordinating with prospective and invited guest speakers; and managing the faculty, staff, instructors, administrative support personnel, and NIU's Board of Visitors.

CATEGORIES OF INDIVIDUALS COVERED BY THE SYSTEM:

All Federal government personnel (includes current and former faculty and staff), all prospective, current and former students of NIU programs for research and degree-granting requirements who have attended NIU.

CATEGORIES OF RECORDS IN THE SYSTEM:

This system contains information supplied by the sponsoring agency and the program participants, including student application; demographic information; consent forms; supporting correspondence; class rosters and directories. The records contain the name; date of birth; Social Security Number (SSN); addresses; telephone numbers; information pertaining to personnel, past, present and projected assignments; educational background; academic/fitness reports; letters of course completion; and academic transcripts.

RECORD SOURCE CATEGORIES:

Record source categories include individuals, military service components, educational institutions, previous employees, and other Federal agencies.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541), and incorporated by reference (see also http://www.dni.gov).

POLICIES AND PRACTICES FOR STORAGE OF RECORDS:

Electronic records stored in secure file servers located in government-managed facilities or in government-leased private cloud-based systems. Paper records stored in government-managed or government-leased facilities.

POLICIES AND PRACTICES FOR RETRIEVAL OF RECORDS:

Records are retrieved by name, SSN, or other unique identifier.

POLICIES AND PRACTICES FOR RETENTION AND DISPOSAL OF RECORDS:

Pursuant to 44 U.S.C. 3303a (d) and 36 CFR chapter 12, subchapter B, part 1224-Disposition of Federal records will not be disposed of until such time as the ODNI implements a NARA-approved Records Control Schedule to include disposition of NIU program files.

ADMINISTRATIVE, TECHNICAL, AND PHYSICAL SAFEGUARDS:

Information in this system safeguarded in accordance with recommended and/or prescribed administrative, physical, and technical safeguards. Records are maintained in secure government-managed facilities with access limited to authorized personnel. Physical security protections include guards and locked facilities requiring badges and passwords for access.

Records are accessed only by authorized government personnel and contractors holding appropriate security clearances and who have a valid business reason to access the records. Electronic authorization and authentication of users is required at all points before authorized users can access any system information. Communications are encrypted where required and other safeguards are in place to monitor and audit access, and to detect intrusions. System backup are maintained separately.

RECORD ACCESS PROCEDURES:

As specified below, records in this system are exempt from certain notification, access, and amendment procedures. A request for access shall be made in writing with the envelope and letter clearly marked “Privacy Act Request.” Requesters shall provide their full name, complete address, NIU program attended, and dates of attendance. The requester must sign the request and have it verified by a notary public. Alternately, the request may be submitted under 28 U.S.C. 1746, certifying the requester's identity and understanding that obtaining a record under false pretenses constitutes a criminal offense. Requests for access to information must be addressed to the Director, Information Management Office, Chief Operating Officer, Office of the Director of National Intelligence, Washington, DC 20511. Regulations governing access to one's records or for appealing an initial determination concerning access to records are contained in the ODNI regulation implementing the Privacy Act, 32 CFR part 1701 (73 FR 16531).

CONTESTING RECORD PROCEDURES:

Individuals seeking to correct or amend records should address their requests to ODNI at the address and according to the requirements set forth above under the heading “Record Access Procedures.” Regulations governing access to and amendment of one's records or for appealing an initial determination concerning access or amendment of records are contained in the ODNI regulation implementing the Privacy Act, 32 CFR part 1701 (73 FR 16531).

NOTIFICATION PROCEDURES:

Individuals seeking to learn whether this system contains non-exempt information about them should address inquiries to the ODNI at the address and according to the requirements set forth above under the heading “Record Access Procedures.”

EXEMPTIONS PROMULGATED FOR THE SYSTEM:

None.

HISTORY:

During NIU's tenure with DIA, the relevant Privacy Act System of Records Notice was LDIA 0011-Student Information Files, 58 FR 10613 (22 February 1993), as amended by 71 FR 32322 (05 June 2006), 74 FR 52464 (13 October 2009), 75 FR 26201 (11 May 2010), and 78 FR 47308 (05 August 2013).

In accordance with 5 U.S.C. 552a(r), ODNI has provided a report of this notice to the Office of Management and Budget and to Congress.

Gregory M. Koch,
Director, Information Management Office, Chief Operating Officer, Office of the Director of National Intelligence.

[FR Doc. 2022-20991 Filed 10-5-22; 8:45 am]

BILLING CODE 9500-01-P-P